DEPARTMENT OF HOMELAND SECURITY

Federal Emergency Management Agency

[Docket ID FEMA-2017-0002; Internal Agency Docket No. FEMA-B-1759]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 7, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1759, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: November 2, 2017.
Roy E. Wright,
Deputy Associate Administrator for Insurance and Mitigation, Department of Homeland Security, Federal Emergency Management Agency.

Community | Community map repository address
Ketchikan Gateway Borough, Alaska and the Cities of Ketchikan and Saxman
Project: 14-10-0603S Preliminary Date: May 5, 2017
Ketchikan Gateway Borough | Ketchikan Gateway Borough, Planning and Community Development Office, 1900 1st Avenue, Suite 126, Ketchikan, AK 99901.
Montgomery County, Kansas and Incorporated Areas
Project: 15-07-2323S Preliminary Date: January 31, 2017
City of Caney | City Hall, 100 West 4th Aveune, Caney, KS 67333.
City of Cherryvale | City Hall, 123 West Main Street, Cherryvale, KS 67335.
City of Coffeyville | Engineering Department, 102 West 7th Street, Coffeyville, KS 67337.
City of Dearing | City Clerk's Office, 306 South Independence Avenue, Dearing, KS 67340.
City of Elk City | City Hall, 114 North Montgomery Avenue, Elk City, KS 67344.
City of Havana | Montgomery County Judicial Center, 300 East Main Street, Lower Level, Independence, KS 67301.
City of Independence | Montgomery County Judicial Center, 300 East Main Street, Lower Level, Independence, KS 67301.
City of Liberty | Montgomery County Judicial Center, 300 East Main Street, Lower Level, Independence, KS 67301.
City of Tyro | City of Tyro Clerk's Office, 1655 County Road 2700, Caney, KS 67333.
Unincorporated Areas of Montgomery County | Montgomery County Judicial Center, 300 East Main Street, Lower Level, Independence, KS 67301.
Ste. Genevieve County, Missouri and Incorporated Areas
Project: 15-07-0334S Preliminary Date: January 23, 2017
City of Bloomsdale | City Hall, 80 Mill Hill Road, Bloomsdale, MO 63627.
City of Ste. Genevieve | City Hall, 165 South 4th Street, Ste. Genevieve, MO 63670.
City of St. Mary | City Hall, 782 3rd Street, St. Mary, MO 63673.
Unincorporated Areas of Ste. Genevieve County | Ste. Genevieve County Courthouse, 55 South 3rd Street, Ste. Genevieve, MO 63670.
Marion County, Oregon and Incorporated Areas
Project: 17-10-0516S Preliminary Date: February 14, 2017
City of Salem | City Hall, 555 Liberty Street Southeast, Room 325, Salem, OR 97301.
City of Turner | City Hall, 5255 Chicago Street Southeast, Turner, OR 97392.
Unincorporated Areas of Marion County | 555 Court Street Northeast, Salem, OR 97301.

[FR Doc. 2017-26340 Filed 12-6-17; 8:45 am]

BILLING CODE 9110-12-P